DEPARTMENT OF ENERGY

Federal Energy Regulatory Commission

[Docket No. RP03-32-000]

Stingray Pipeline Company, L.L.C.; Notice of Proposed Changes in FERC Gas Tariff

October 22, 2002.

Take notice that on October 18, 2002, Stingray Pipeline Company, L.L.C. (Stingray) tendered for filing as part of its FERC Gas Tariff, Third Revised Volume No. 1, First Revised Sheet No. 186, to become effective on December 1, 2002.

Stingray states that this filing is being made to comply with Section 2.5 of a Stipulation and Agreement (S&A) filed in Docket No. RP99-166-000 on September 19, 2002. The filing institutes a new provision in section 22.5 of the General Terms and Conditions of Stingray's FERC Gas Tariff that will provide Stingray the right to process delivered natural gas for removal of liquid and liquefiable hydrocarbons so long as Stingray redelivers thermally equivalent quantities of natural gas to its shippers.

Stingray states that a copy of this filing has been served upon its customers.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-27470 Filed 10-28-02; 8:45 am]

BILLING CODE 6717-01-P